DEPARTMENT OF HOMELAND SECURITY

Federal Emergency Management Agency

44 CFR Part 67

[Docket No. FEMA-B-1007]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 24, 2008.

ADDRESSES: The corresponding preliminary Flood Insurance Rate Map (FIRM) for the proposed BFEs for each community are available for inspection at the community's map repository. The respective addresses are listed in the table below.

You may submit comments, identified by Docket No. FEMA-B-1007, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Mohave County, Arizona, and Incorporated Areas
Williams Wash | Approximately 250 feet upstream of confluence Highland/Green Wash | #2 | +703 | City of Bullhead City.
| Approximately 622 feet upstream of La Puerta Road | None | +1471
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed
Send comments to William R. Blanton, Jr., Chief, Engineering Management Branch, Mitigation Directorate, Federal Emergency Management Agency, 500 C Street, SW., Washington, DC 20472.
ADDRESSES
City of Bullhead City
Maps are available for inspection at 1255 Marina Blvd, Bullhead City, AZ 86442.
Brown County, Illinois, and Incorporated Areas
Illinois River | From the limit of flooding affecting community at river mile 71.3 in Pike County; 0.7 miles downstream of the Pike/Brown County Border at approximately State Hwy 104 | +447 | +448 | Unincorporated Areas of Brown County.
| To the Schuyler/Morgan County Border at river mile 83.8; approximately the mouth of the La Moine River | +448 | +450
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Brown County
Maps are available for inspection at Brown County Courthouse, 200 West Court Street, Mt. Sterling, IL 62353.
Anderson County, Kentucky, and Incorporated Areas
Kentucky River | Anderson County and Franklin County corporate limits | None | +509 | Unincorporated Areas of Anderson County.
| Anderson County and Mercer County corporate limits. | None | +527
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Anderson County
Maps are available for inspection at 139 Main Street, Lawrenceburg, KY 40342.
Henderson County, Kentucky, and Incorporated Areas
Canoe Creek | Just upstream US-41 | None | +376 | Unincorporated Areas of Henderson County, City of Henderson.
| At confluence with Elam Ditch | None | +383
Elam Ditch | At confluence with Canoe Creek | None | +383 | Unincorporated Areas of Henderson County.
| At Airline Road (KY-812) | None | +393
Elam Ditch Tributary 1 | At confluence with Elam Ditch | None | +384 | Unincorporated Areas of Henderson County.
| Approximately 1250 feet downstream Toy Anthoston Road (KY-2677) | None | +395
Elam Ditch Tributary 2 | At confluence with Elam Ditch | None | +384 | Unincorporated Areas of Henderson County.
| Just downstream Airline Road (KY-812) | None | +395
Elam Ditch Tributary 3 | At confluence with Elam Ditch | None | +384 | Unincorporated Areas of Henderson County.
| Just downstream Toy Anthoston | None | +389
Kimsey Lane Left Tributary | At confluence with North Fork Canoe Creek | +387 | +388 | Unincorporated Areas of Henderson County, City of Henderson.
| Approximately 750 feet upstream Van Wyk Road | +387 | +388
Kimsey Lane Right Tributary | At confluence with North Fork Canoe Creek | +387 | +388 | Unincorporated Areas of Henderson County, City of Henderson.
| At Kinsey Lane (KY-6112) | +387 | +388
Middle Canoe Creek | At confluence with Sellers Ditch | +379 | +382 | Unincorporated Areas of Henderson County, City of Henderson.
| At confluence with Elam Ditch | +380 | +382
North Fork Canoe Creek | At confluence with Canoe Creek | +378 | +382 | Unincorporated Areas of Henderson County, City of Henderson.
| At approximately 4000 feet upstream Kimsey Lane (KY-6112) | +387 | +389
Sellers Ditch | At confluence with Canoe Creek | +377 | +376 | Unincorporated Areas of Henderson County.
| Approximately 200 feet upstream Old Madison Road | +379 | +382
Tiger Ditch (Formerly Highway 812 Tributary) | At confluence with North Fork Canoe Creek | +379 | +382 | Unincorporated Areas of Henderson County, City of Henderson.
| Approximately 150 feet downstream Zion Road | None | +391
Tiger Ditch Tributary 1 | At confluence with Tiger Ditch (Formerly Highway 812 Tributary) | None | +385 | Unincorporated Areas of Henderson County, City of Henderson.
| Just downstream Adams Lane | None | +390
Upper Canoe Creek | At confluence with Sellers Ditch | +379 | +382 | Unincorporated Areas of Henderson County.
| Approximately 3800 feet upstream confluence with East Fork Canoe Creek | +382 | +385
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Henderson
Maps are available for inspection at 222 First Street, Henderson, KY 42419.
Unincorporated Areas of Henderson County
Maps are available for inspection at 20 North Main Street, Henderson, KY 42420.
Jackson County, Michigan, and Incorporated Areas
Grand River | Upstream side of High Street | None | +935 | City of Jackson, Township of Leoni, Township of Napoleon, Township of Summit.
| Approximately 1,400 feet upstream of Porbert Road | +941 | +942
Grand River | Downstream side of Maple Grove Road | None | +909 | Township of Rivas.
| Approximate 0.5 mile upstream of Maple Grove Road | None | +910
North Branch Grand River | At confluence with Grand River | None | +935 | Township of Leoni.
| Downstream side of 5th Street | None | +936
North Branch Kalamazoo River | Approximately 0.6 mile upstream of N. Main Street | None | +988 | Township of Concord.
| Approximately 1 mile upstream of N. Main Street | None | +988
Vineyard Lake | Entire shoreline of Vineyard Lake | None | +970 | Township of Norvell, Township of Columbia.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Jackson
Maps are available for inspection at 161 W Michigan Avenue, Jackson, MI 49201.
Township of Columbia
Maps are available for inspection at 8500 Jefferson Road, Brooklyn, MI 49230.
Township of Concord
Maps are available for inspection at 402 South Main Street, Concord, MI 49237.
Township of Leoni
Maps are available for inspection at 913 Fifth Street, Michigan Center, MI 49254.
Township of Napoleon
Maps are available for inspection at 6755 Brooklyn Road, Napoleon, MI 49261.
Township of Norvell
Maps are available for inspection at 106 E Commercial Street, Norvell, MI 49263.
Township of Rivas
Maps are available for inspection at 106 Main Street, Jackson, MI 49201.
Township of Summit
Maps are available for inspection at 2121 Ferguson Road, Jackson, MI 49201.
Missoula County, Montana, and Incorporated Areas
Clarks Fork | Approximately 50 feet upstream of Reserve Street | +3160 | +3157 | Unincorporated Areas of Missoula County, City of Missoula.
| Approximately 500 feet downstream of Russell Street | +3168 | +3169
La Valle Creek | Approximately 150 feet upstream of the Frenchtown Irrigation District Ditch | None | +3075 | Unincorporated Areas of Missoula County.
| Just upstream of Dechamps Bridge | None | +3081
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Missoula
Maps are available for inspection at 435 Ryman St, Missoula, MT 59802.
Unincorporated Areas of Missoula County
Maps are available for inspection at 435 Ryman St, Missoula, MT 59802.

(Catalog of Federal Domestic Assistance No. 97.022, “Flood Insurance.”)

Dated: September 16, 2008.
Michael K. Buckley,
Acting Assistant Administrator, Mitigation Directorate, Department of Homeland Security, Federal Emergency Management Agency.

[FR Doc. E8-22523 Filed 9-24-08; 8:45 am]

BILLING CODE 9110-12-P